ENVIRONMENTAL PROTECTION AGENCY

[FRL-9916-48-Region 5]

Operating Permit Program: Notice of Reporting Requirements for Compliance Certifications

AGENCY: Environmental Protection Agency (EPA).

ACTION: Notice; reporting requirements for compliance certifications.

SUMMARY: Under the state operating permit programs compliance certification requirements, facilities subject to the Title V operating permit program are required to submit compliance certifications to the Environmental Protection Agency (EPA) and the permitting authority. EPA is providing notice that submittal of Title V compliance certifications to the Region 5 authorized State permitting authorities, except Michigan, fulfills the reporting requirements. This allows for EPA and the delegated State agencies to meet air quality goals while streamlining reporting requirements and eliminating the duplication of paperwork by regulated facilities.

DATES: This action is effective on September 15, 2014.

ADDRESSES: The documents relevant to this action are available for public inspection during normal business hours at the following addresses:

Illinois Environmental Protection Agency, Bureau of Air, 1021 North Grand Avenue East, P.O. Box 19276, Springfield, Illinois 62794-9276.

Indiana Department of Environmental Management, Office of Air Quality, Indiana Government Center North, 100 Senate Avenue, Indianapolis, Indiana 46204.

Minnesota Pollution Control Agency, Industrial Division, Land and Air Compliance Section, 520 Lafayette Road North, St. Paul, Minnesota 55155-4194.

Ohio Environmental Protection Agency, Division of Air Pollution Control, P.O. Box 109, Columbus, Ohio 43216-1049.

Wisconsin Department of Natural Resources, Bureau of Air Management, 101 S. Webster Street, P.O. Box 7921 Madison, Wisconsin 53707-7921.

FOR FURTHER INFORMATION CONTACT: Rochelle Marceillars, Air Enforcement and Compliance Assurance Branch, Air and Radiation Division, U.S. Environmental Protection Agency, 77 W. Jackson Boulevard, Chicago, Illinois 60604.

SUPPLEMENTARY INFORMATION: The reporting provisions in 40 CFR 70.6(c)(5)(iv) requiring all compliance certifications be submitted to EPA and the permitting authority will be met by sending such submissions only to the authorized State Region 5 agency provided that: (1) Submissions do not contain or rely upon confidential information; (2) the State agency maintains authority to implement the 40 CFR part 70 Operating Permit Program; and (3) EPA will have access to these reports and related documents via hard or electronic copy, as needed. This notice does not apply to Michigan.

Authority: 42 U.S.C. 7401 et seq.

Dated: September 2, 2014.
Susan Hedman,
Regional Administrator, Region 5.

[FR Doc. 2014-21943 Filed 9-12-14; 8:45 am]

BILLING CODE 6560-50-P